NATIONAL FOUNDATION ON THE ARTS AND THE HUMANITIES

Meeting of the National Museum Services Board

AGENCY: Institute of Museum and Library Services.

ACTION: Notice of meeting.

SUMMARY: This notice sets forth the agenda of a forthcoming meeting of the National Museum Services Board. This notice also describes the function of the board. Notice of this meeting is required under the Government through the Federal Advisory Committee Act 5 U.S.C. App., and regulations of the Institute of Museum and Library Services, 45 CFR 1180.84.

Time/Date: 1:30 p.m.-3:30 p.m. on Thursday, May 18, 2000.

Status: Open.

Address: The Walter Art Gallery, Hackerman House Conference Room, 600 N. Charles Street, Baltimore, MD2 20004, (410) 547-9000.

FOR FURTHER INFORMATION CONTACT: Elizabeth Lyons, Special Assistant to the Director, Institute of Museum and Library Services, 1100 Pennsylvania Avenue, NW, Room 510, Washington, DC 20506, (202) 606-4649.

SUPPLEMENTARY INFORMATION: The National Museum Services Board is established pursuant to 20 U.S.C. Section 9175. The Board has responsibility for the general policies with respect to the powers, duties, and authorities vested in the Institute under the Museum Services Act.

The meeting on Thursday, May 18, 2000 will be open to the public. If you need special accommodations due to a disability, please contact: Institute of Museum and Library Services, 1100 Pennsylvania Avenue, NW, Washington, DC 20506—(202) 606-8536—TDD (202) 606-8636 at least seven (7) days prior to the meeting date.

Agenda

78th Meeting of the National Museum Services Board in The Hackerman House Conference Room at the Walter Art Gallery, 600 N. Charles Street, Baltimore, MD 21201 on Thursday, May 18, 2000, 1:30 pm-3:30 pm

I. Chairperson's Welcome and Minutes of the 77th NMSB Meeting—November 5, 2000

II. Director's Report

III. Departmental Reports

Legislative/Public Affairs Report

Office of Research and Technology Report

Office of Museum Services Program Report

Office of Library Services Program Report

IV. Museums, Libraries and the 21st Century Learner

V. Perspectives on Fundraising

Dated: April 28, 2000.
Linda Bell,
Director of Policy, Planning and Budget, National Foundation on the Arts and Humanities, Institute of Museum and Library Services.

[FR Doc. 00-11186 Filed 5-1-00; 8:45 am]

BILLING CODE 70386-01-M